DEPARTMENT OF TRANSPORTATION

Office of the Secretary

Aviation Proceedings, Agreements Filed the Week Ending May 9, 2009

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0104.

Date Filed: May 4, 2009.

Parties: Members of the International Air Transport Association.

Subject: PTC COMP Mail Vote 600, Resolution 024a, Establishing Passenger Fares and Related Charges (Memo 1525), Intended effective date: 1 June 2009.

Renee V. Wright,
Program Manager, Docket Operations, Federal Register Liaison.

[FR Doc. E9-11717 Filed 5-19-09; 8:45 am]

BILLING CODE 4910-9X-P